DEPARTMENT OF TRANSPORTATION

Federal Highway Administration

Environmental Impact Statement: Proposed Dickson Southwest Bypass from US-70 to State Route 46 and/or Interstate 40, Dickson County, TN

AGENCY: Federal Highway Administration (FHWA), DOT.

ACTION: Notice of intent.

SUMMARY: The Federal Highway Administration (FHWA) is issuing this notice to advise the public that an Environmental Impact Statement (EIS) will be prepared for a proposed transportation project in Dickson County, Tennessee.

FOR FURTHER INFORMATION CONTACT: Ms. Laurie S. Leffler, Assistant Division Administrator, Federal Highway Administration—Tennessee Division Office, 640 Grassmere Park Road, Suite 112, Nashville, TN 37211, or by phone at 615-781-5770.

SUPPLEMENTARY INFORMATION: The FHWA in cooperation with the Tennessee Department of Transportation will prepare an Environmental Impact Statement (EIS) on a proposal to construct a bypass around the southwest side of the City of Dickson, for a distance of approximately 10 miles.

Alternatives to be considered include: (1) No-build; (2) a Transportation System Management (TSM) alternative (3) one or more build alternatives that could include constructing a roadway on a new location, upgrading existing US-70 and State Route 46, or a combination of both, and (4) other alternatives that may arise from public input. Public scoping meetings will be held for the project corridor. As part of the scoping process, federal, state, and local agencies and officials; private organizations; citizens; and interest groups will have an opportunity to identify issues of concern and provide input on the purpose and need for the project, range of alternatives, methodology, and the development of the Environmental Impact Statement. A Coordination Plan will be developed to include the public in the project development process. This plan will utilize the following outreach efforts to provide information and solicit input: Newsletters, an internet website, e-mail and direct mail, informational meetings and briefings, public hearings, and other efforts as necessary and appropriate. A public hearing will be held upon completion of the Draft Environmental Impact Statement and public notice will be given of the time and place of the hearing. The Draft EIS will be available for public and agency review and comment prior to the public hearings.

To ensure that the full range of issues related to this proposed action are identified and taken into account, comments and suggestions are invited from all interested parties. Comments and questions concerning the proposed action should be directed to the FHWA contact person identified above at the address provided above.

(Catalog of Federal Domestic Assistance Program Number 20.205, Highway Planning and Construction. The regulations implementing Executive Order 12372 regarding intergovernmental consultation on Federal programs and activities apply to this proposed program).

Issued on: September 18, 2007.
Laurie S. Leffler,
Assistant Division Administrator, Nashville, TN.

[FR Doc. E7-18796 Filed 9-21-07; 8:45 am]

BILLING CODE 4910-22-P